DEPARTMENT OF STATE

[Public Notice 3793]

Bureau of Educational and Cultural Affairs Request for Grant Proposals in Support of the Regional Educational Advising Coordinator Program for the New Independent States (NIS REAC)

SUMMARY: The Office of Global Educational Programs of the Bureau of Educational and Cultural Affairs announces an open competition for the Regional Educational Advising Coordinator for the Newly Independent States (NIS REAC) program grant. Public and private non-profit organizations meeting the provisions described in IRS regulation 26 CFR 1.501(c) may submit proposals for the program of Regional Educational Advising Coordinator for the NIS region. The REAC program works to support and assist in the professional development of educational information centers in Armenia, Azerbaijan, Belarus, Georgia, Kazakstan, Kyrgyzstan, Moldova, Russia, Tajikistan, Turkmenistan, Ukraine, and Uzbekistan. The REAC is a primary source of information related to educational advising for advisers in the field. The REAC manages a listserv and responds to adviser questions, oversees the production of a regional newsletter, and travels to centers to ensure that they are operating efficiently and effectively by conducting training and assessments. The REAC is responsible for maintaining the network of advising centers, coordinating training programs, and facilitating communication among advisers, U.S. Embassies, and the Bureau.

Program Information

Overview: The NIS REAC was created to coordinate and oversee the establishment of a network of educational information centers throughout the region. Advising centers first opened in the NIS in 1992, and the network has expanded each year. These centers provide accurate and unbiased information and advising about higher education in the U.S. and U.S. Government-sponsored exchange programs to all interested students and scholars. The REAC's mission is to continue to develop and strengthen this network of 60 educational information centers and to provide leadership and expertise in educational advising issues to centers and Public Affairs Sections. The REAC is responsible for providing onsite technical assistance and training to all centers in the U.S. Department of State-affiliated network.

The REAC should lend support to any affiliated center in the twelve countries comprising the NIS region, and must work impartially with all organizations involved in educational advising to help enable centers to provide accurate and timely information on U.S. higher educational opportunities. The REAC must work closely with the Bureau and Public Affairs Sections to help establish priorities for educational advising in the region. The REAC must be a U.S. citizen.

Guidelines: Pending availability of funds, the grant will begin January 1, 2002 and end December 31, 2002.

Responsibilities include:

1. Making site visits to educational information centers. In a grant year, a reasonable number of centers to visit is approximately 15-20; visits to more than one center may be combined in one trip when possible to maximize cost-efficiency. Centers to receive REAC site visits are determined by Bureau and U.S. Embassy requests and priorities, length of time since last REAC visit, and other special factors, such as the hiring of a new adviser or a move to a new location. Reports with recommendations should be sent to advisers, U.S. Embassies, and the Bureau at the conclusion of each site visit.

2. Providing information and guidance related to educational advising, as requested by centers, U.S. Embassies, and the Bureau.

3. Supervising production of a regional newsletter and maintaining an e-mail listserv for advisers.

4. Organizing and overseeing an internship training program (ITP) for approximately five beginning to mid-level advisers in Moscow or another large center with senior-level experienced staff, and scheduling other ITPs as necessary.

5. Organizing in-country or sub-regional workshops, approximately 2-3 per year, or as determined in consultation with the Bureau and U.S. Embassies.

6. Participating in the NAFSA: Association of International Educators National Conference as a presenter and resource.

7. Evaluating the effectiveness and efficiency of the advising centers, making recommendations, and developing a plan for follow-up.

8. Working with the advising centers to promote the ECA Bureau priority of diversity by encouraging centers to conduct outreach activities to reach less-represented groups.

Qualifications required for the ideal candidate and sponsoring organization include:

1. Fluent Russian language and/or other regional language ability.

2. Knowledge of and experience with educational advising centers and activities .

3. Knowledge of U.S. higher education, including the application process, accreditation, financial aid, standardized testing requirements, distance education, etc.

4. Experience living and traveling in the NIS region, and a demonstrated willingness to undertake an ambitious travel schedule.

5. Organizational skills and institutional support needed to administer internship training programs and other training events.

6. Time management skills.

7. Experience as a trainer.

8. Excellent oral and written communication skills.

9. Computer/Internet/listserv skills.

10. U.S. citizenship.

Budget Guidelines

The Bureau's grant assistance, up to $150,000, is expected to constitute only a portion of the total funding; the Bureau encourages applicants to provide maximum levels of cost-sharing and funding from private sources in support of its programs. Grants awarded to eligible organizations with less than four years of experience in conducting international exchange programs will be limited to $60,000.

Applicants must submit a comprehensive budget for the entire program. There must be a summary budget as well as breakdowns reflecting both administrative and program budgets, and travel cost estimates. Allowable costs for the program include the following:

(1) REAC salary and benefits.

(2) Administrative assistant salary.

(3) Travel and per diem costs for site visits and training within the NIS region.

(4) Travel for REAC to attend NAFSA National Conference in San Antonio, TX for one week, and an additional week of REAC meetings in Washington, D.C. in May/June 2002.

(5) Program costs for internship training programs and other training workshops. This may include participant travel and per diem, supplies, venue costs, and honoraria for speakers.

(6) Office and administrative costs, including communication and equipment.

Please refer to the Solicitation Package for complete budget guidelines and formatting instructions.

Announcement Title and Number

All correspondence with the Bureau concerning this RFGP should reference the title, “Regional Educational Advising Coordinator for the Newly Independent States (NIS REAC),” and reference number ECA/A/S/A-02-06.

FOR FURTHER INFORMATION, CONTACT: The Office of Global Educational Programs, Educational Information and Resources Branch, ECA/A/S/A, room 349, U.S. Department of State, 301 4th Street, SW., Washington, DC 20547, phone: 202-619-5434, fax: 202-401-1433, http://exchanges.state.gov/education/educationusa. Please specify Bureau Program Officer Sharen Sheehan on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, D.C. time on Monday, November 5, 2001. Faxed documents will not be accepted at any time. Documents postmarked the due date but received on a later date will not be accepted. Each applicant must ensure that the proposals are received by the above deadline.

Applicants must follow all instructions in the Solicitation Package. The original and five copies of the application should be sent to: U.S. Department of State, SA-44, Bureau of Educational and Cultural Affairs, Ref.: ECA/A/S/A-02-06, Program Management, ECA/EX/PM, Room 534, 301 4th Street, SW., Washington, DC 20547.

Applicants must also submit the “Executive Summary” and

“Proposal Narrative” sections of the proposal on a 3.5” diskette, formatted for DOS. Please label diskettes “Unclassified.” These documents must be provided in ASCII text (DOS) format with a maximum line length of 65 characters. The Bureau will transmit these files electronically to the Public Affairs sections at U.S. Embassies for review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy Sections overseas.

Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for grants resides with the Bureau's Grants Officer.

Review Criteria

Technically eligible applications will be competitively reviewed according to the criteria stated below. These criteria are not rank ordered and all carry equal weight in the proposal evaluation:

1. Quality of the program idea: Proposals should exhibit substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Support of Diversity: Proposals should demonstrate substantive support of the Bureau's policy on diversity. Achievable and relevant features should be cited in both program administration and program content.

5. Institutional Capacity and Experience: Proposed personnel and institutional experience and resources should be adequate and appropriate to achieve the program or project's goals.

6. Project Evaluation: Proposals should include a plan to evaluate the activity's success.

7. Cost-effectiveness: The overhead and administrative components of the proposal should be kept as low as possible. All other items should be necessary and appropriate.

8. Cost-sharing: Proposals should maximize cost-sharing through other private sector support as well as institutional direct funding contributions.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. Partial funding for this grant will be provided by FREEDOM Support Act funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: September 26, 2001.
Helena Kane Finn,
Acting Assistant Secretary for Educational and Cultural Affairs, U.S. Department of State.

[FR Doc. 01-24747 Filed 10-3-01; 8:45 am]

BILLING CODE 4710-05-P